DEPARTMENT OF TRANSPORTATION

Federal Aviation Administration

14 CFR Part 39

[Docket No. FAA-2022-0092; Project Identifier MCAI-2020-01428-A; Amendment 39-22039; AD 2022-10-01]

RIN 2120-AA64

Airworthiness Directives; Pilatus Aircraft Ltd. Airplanes

AGENCY: Federal Aviation Administration (FAA), DOT.

ACTION: Final rule.

SUMMARY: The FAA is adopting a new airworthiness directive (AD) for certain Pilatus Aircraft Ltd. (Pilatus) Model PC-12/47E airplanes. This AD was prompted by mandatory continuing airworthiness information (MCAI) originated by an aviation authority of another country to identify and correct an unsafe condition on an aviation product. The MCAI identifies the unsafe condition as a batch of incorrectly sized fuel transfer ejector nozzles that were installed on Model PC-12/47E airplanes during production. This AD requires removing the affected fuel transfer ejectors from service and prohibits installation of the affected fuel transfer ejectors. The FAA is issuing this AD to address the unsafe condition on these products.

DATES: This AD is effective June 24, 2022.

The Director of the Federal Register approved the incorporation by reference of a certain publication listed in this AD as of June 24, 2022.

ADDRESSES: For service information identified in this final rule, contact Pilatus Aircraft Ltd., Customer Support General Aviation, CH-6371 Stans, Switzerland; phone: +41 848 24 7 365; email: techsupport.ch@pilatus-aircraft.com; website: https://www.pilatus-aircraft.com. You may view this service information at the FAA, Airworthiness Products Section, Operational Safety Branch, 901 Locust, Kansas City, MO 64106. For information on the availability of this material at the FAA, call (817) 222-5110. It is also available at https://www.regulations.gov by searching for and locating Docket No. FAA-2022-0092.

Examining the AD Docket

You may examine the AD docket at https://www.regulations.gov by searching for and locating Docket No. FAA-2022-0092; or in person at Docket Operations between 9 a.m. and 5 p.m., Monday through Friday, except Federal holidays. The AD docket contains this final rule, the MCAI, any comments received, and other information. The address for Docket Operations is U.S. Department of Transportation, Docket Operations, M-30, West Building Ground Floor, Room W12-140, 1200 New Jersey Avenue SE, Washington, DC 20590.

FOR FURTHER INFORMATION CONTACT: Doug Rudolph, Aviation Safety Engineer, General Aviation & Rotorcraft Section, International Validation Branch, FAA, 901 Locust, Room 301, Kansas City, MO 64106; phone: (816) 329-4059; email: doug.rudolph@faa.gov.

SUPPLEMENTARY INFORMATION:

Background

The FAA issued a notice of proposed rulemaking (NPRM) to amend 14 CFR part 39 by adding an AD that would apply to certain serial-numbered Pilatus Model PC-12/47E airplanes. The NPRM published in the Federal Register on February 10, 2022 (87 FR 7774). The NPRM was prompted by MCAI from the European Union Aviation Safety Agency (EASA), which is the Technical Agent for the Member States of the European Union. EASA issued AD 2020-0229, dated October 20, 2020 (referred to after this as “the MCAI”), to correct an unsafe condition on Pilatus Model PC-12/47E airplanes with serial number 2001 and larger. The MCAI states:

An occurrence was reported where, on the production line, a batch of fuel transfer ejectors with an incorrect (too small) nozzle diameter were installed on some PC-12/47E aeroplanes. Such fuel transfer ejectors are not in compliance with the latest approved design data.

This condition, if not corrected, could result in a restriction of the motive fuel flow due to ice accumulation, possibly resulting in a reduction of safety margins in the fuel system.

To address this potential unsafe condition, Pilatus issued the SB [Service Bulletin] to provide replacement instructions.

For the reason described above, this [EASA] AD requires replacement of the affected parts with serviceable parts, as defined in the [EASA] AD. This [EASA] AD also prohibits (re-)installation of affected parts.

You may examine the MCAI in the AD docket at https://www.regulations.gov by searching for and locating Docket No. FAA-2022-0092.

In the NPRM, the FAA proposed to require removing the affected fuel transfer ejectors from service and proposed to prohibit installation of an affected fuel transfer ejector. The FAA is issuing this AD to address the unsafe condition on these products.

Discussion of Final Airworthiness Directive

Comments

The FAA received comments from Pilatus and the Airline Pilots Association, International (ALPA). The following presents the comments received on the NPRM and the FAA's response to each comment.

ALPA supported the NPRM without change.

Pilatus requested the FAA clarify the unsafe condition statement in paragraph (e) of the proposed AD. Pilatus disagreed with the conclusion that reduction in safety margins in the fuel system could result in loss of control of the airplane. Pilatus explained that a reduction in safety margins would not lead to loss of control of the airplane; in the event the engine is starved of fuel, it will shut down but not necessarily lead to a loss of control because the airplane could glide controllably for a period of time.

The FAA agrees and has revised paragraph (e) of this AD to state that the unsafe condition could lead to “loss of engine power or engine shutdown.”

Conclusion

This model has been approved by the aviation authority of another country and is approved for operation in the United States. Pursuant to the FAA's bilateral agreement with this State of Design Authority, it has notified the FAA of the unsafe condition described in the MCAI referenced above. The FAA reviewed the relevant data, considered the comments received, and determined that, except for the changes described previously, air safety requires adopting this AD as proposed. Accordingly, the FAA is issuing this AD to address the unsafe condition on this product. Except for any changes described previously, this AD is adopted as proposed in the NPRM. None of the changes will increase the economic burden on any operator.

Related Service Information Under 1 CFR Part 51

The FAA reviewed Pilatus PC-12 Service Bulletin No. 28-014, dated August 12, 2020. This service information contains the serial numbers of the affected fuel transfer ejectors and specifies procedures for replacing the affected fuel transfer ejectors. This service information is reasonably available because the interested parties have access to it through their normal course of business or by the means identified in the ADDRESSES section.

Costs of Compliance

The FAA estimates that this AD affects 10 airplanes of U.S. Registry. Although there are 54 affected fuel transfer ejectors worldwide, the FAA has no way of knowing how many affected parts may be installed on airplanes of U.S. Registry. The estimated cost on U.S. operators reflects the maximum possible cost based on the 10 airplanes of U.S. registry.

The FAA estimates the following costs to comply with this AD:

Estimated Costs
Action | Labor cost | Parts cost | Cost per airplane | Cost on U.S. operators
Replace fuel transfer ejector | 5.5 work-hours × $85 per hour = $467.50 | $2,109 | $2,576.50 | $25,765

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-10-01 Pilatus Aircraft Ltd.: Amendment 39-22039; Docket No. FAA-2022-0092; Project Identifier MCAI-2020-01428-A.

(a) Effective Date

This airworthiness directive (AD) is effective June 24, 2022.

(b) Affected ADs

None.

(c) Applicability

This AD applies to Pilatus Aircraft Ltd. Model PC-12/47E airplanes, serial numbers 2001 and larger, certificated in any category.

(d) Subject

Joint Aircraft Service Component (JASC) Code: 2800, Aircraft Fuel System.

(e) Unsafe Condition

This AD was prompted by mandatory continuing airworthiness information (MCAI) originated by an aviation authority of another country to identify and correct an unsafe condition on an aviation product. The MCAI describes the unsafe condition as a batch of incorrectly sized fuel transfer ejector nozzles that were installed on Model PC-12/47E airplanes during production. The FAA is issuing this AD to correct the installation of incorrectly sized fuel transfer ejectors nozzles. If not addressed, this unsafe condition could result in a restriction of motive fuel flow due to ice accumulation and lead to a reduction of safety margins in the fuel system with loss of engine power or engine shutdown.

(f) Compliance

Comply with this AD within the compliance times specified, unless already done.

(g) Definitions

(1) For purposes of this AD, an “affected fuel transfer ejector” is a fuel transfer ejector part number (P/N) 968.84.71.112 with a serial number listed in the table on page 1 in section 1.C. of Pilatus PC-12 Service Bulletin No. 28-014, dated August 12, 2020 (Pilatus SB 28-014).

(2) For purposes of this AD, a “Group 1 airplane” is an airplane with an affected fuel transfer ejector installed.

(3) For purposes of this AD, a “Group 2 airplane” is an airplane without an affected fuel transfer ejector installed.

(h) Required Actions

For Group 1 airplanes: Within 4 months after the effective date of this AD, remove each fuel transfer ejector from service and install a serviceable part in accordance with Paragraph 3.B.(1) of the Accomplishment Instructions in Pilatus SB 28-014.

(i) Parts Installation Prohibition

As of the applicable time specified in paragraph (i)(1) or (2) of this AD, do not install an affected fuel transfer ejector on any airplane.

(1) For Group 1 airplanes: After replacing the fuel transfer ejector as required by paragraph (h) of this AD.

(2) For Group 2 airplanes: As of the effective date of this AD.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD and email to: 9-AVS-AIR-730-AMOC@faa.gov.

(2) Before using any approved AMOC, notify your appropriate principal inspector, or lacking a principal inspector, the manager of the local flight standards district office/certificate holding district office.

(k) Related Information

(1) For more information about this AD, contact Doug Rudolph, Aviation Safety Engineer, General Aviation & Rotorcraft Section, International Validation Branch, FAA, 901 Locust, Room 301, Kansas City, MO 64106; phone: (816) 329-4059; email: doug.rudolph@faa.gov.

(2) Refer to European Union Aviation Safety Agency (EASA) AD 2020-0229, dated October 20, 2020, for more information. You may examine the EASA AD in the AD docket at https://www.regulations.gov by searching for and locating Docket No. FAA-2022-0092.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Pilatus PC-12 Service Bulletin No. 28-014, dated August 12, 2020.

(ii) [Reserved]

(3) For service information identified in this AD, contact Pilatus Aircraft Ltd., Customer Support General Aviation, CH-6371 Stans, Switzerland; phone: +41 848 24 7 365; email: techsupport.ch@pilatus-aircraft.com; website: https://www.pilatus-aircraft.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: https://www.archives.gov/federal-register/cfr/ibr-locations.html.

Issued on April 30, 2022.
Gaetano A. Sciortino,
Deputy Director for Strategic Initiatives, Compliance & Airworthiness Division, Aircraft Certification Service.

[FR Doc. 2022-10761 Filed 5-19-22; 8:45 am]

BILLING CODE 4910-13-P